DEPARTMENT OF ENERGY

Federal Energy Regulatory Commission

Combined Notice of Filings #1

Take notice that the Commission received the following electric corporate filings:

Docket Numbers: EC11-112-001.

Applicants: La Paloma Generating Company, LLC, SOLA LTD, Solus Alternative Asset Management LP.

Description: Request for Extension of Existing Blanket Authorization under Section 203(a)(1) of the Federal Power Act of La Paloma Generating Company, LLC, et. al.

Filed Date: 8/22/14.

Accession Number: 20140822-5062.

Comments Due: 5 p.m. ET 9/12/14.

Docket Numbers: EC14-128-000.

Applicants: International Transmission Company.

Description: Application pursuant to Section 203 seeking authorization to acquire transmission assets from DTE Electric Company of International Transmission Company.

Filed Date: 8/22/14.

Accession Number: 20140822-5027.

Comments Due: 5 p.m. ET 9/12/14.

Take notice that the Commission received the following electric rate filings:

Docket Numbers: ER10-3297-004.

Applicants: Powerex Corp.

Description: Supplement to May 29, 2014 Notice of Non-Material Change in Status of Powerex Corp.

Filed Date: 8/20/14.

Accession Number: 20140820-5197.

Comments Due: 5 p.m. ET 9/10/14.

Docket Numbers: ER12-2304-004.

Applicants: Green Mountain Power Corporation, ISO New England Inc.

Description: Compliance filing per 35: Statge 1 Compliance Filing—Schedule 21-GMP to be effective 10/1/2012.

Filed Date: 8/22/14.

Accession Number: 20140822-5004.

Comments Due: 5 p.m. ET 9/12/14.

Docket Numbers: ER12-2304-005.

Applicants: Green Mountain Power Corporation, ISO New England Inc.

Description: Compliance filing per 35: Stage 2 Compliance Filing—Schedule 21-GMP to be effective 8/4/2014.

Filed Date: 8/22/14.

Accession Number: 20140822-5005.

Comments Due: 5 p.m. ET 9/12/14.

Docket Numbers: ER14-1485-002.

Applicants: PJM Interconnection, L.L.C.

Description: Tariff Amendment per 35.17(b): Motion to Hold Captioned Dockets in Abeyance under Docket No. ER14-1485 to be effective 6/11/2014.

Filed Date: 8/21/14.

Accession Number: 20140821-5110.

Comments Due: 5 p.m. ET 9/11/14.

Docket Numbers: ER14-2555-001.

Applicants: Southwest Power Pool, Inc.

Description: Tariff Amendment per 35.17(b): 2158R4 Substitute Arkansas Electric Cooperative Corp NITSA NOA to be effective 7/1/2014.

Filed Date: 8/22/14.

Accession Number: 20140822-5141.

Comments Due: 5 p.m. ET 9/12/14.

Docket Numbers: ER14-2686-000.

Applicants: ISO New England Inc., New England Power Pool Participants Committee.

Description: § 205(d) rate filing per 35.13(a)(2)(iii): MR1 Rev. to FCM Competitive Offer Test for EMOF to be effective 12/3/2014.

Filed Date: 8/22/14.

Accession Number: 20140822-5011.

Comments Due: 5 p.m. ET 9/12/14.

Docket Numbers: ER14-2687-000.

Applicants: CED White River Solar, LLC.

Description: § 205(d) rate filing per 35.13(a)(2)(iii): Filing of modification to market-based rate tariff to be effective 8/25/2014.

Filed Date: 8/22/14.

Accession Number: 20140822-5042.

Comments Due: 5 p.m. ET 9/12/14.

Docket Numbers: ER14-2688-000.

Applicants: PacifiCorp.

Description: § 205(d) rate filing per 35.13(a)(2)(iii): BPA Agreement for Work at Hat Rock Switching Station Mod 2 to be effective 10/22/2014.

Filed Date: 8/22/14.

Accession Number: 20140822-5085.

Comments Due: 5 p.m. ET 9/12/14.

Docket Numbers: ER14-2689-000.

Applicants: Pacific Gas and Electric Company.

Description: Pacific Gas and Electric Company submits Notice of Termination of Generator Interconnection Agreement & Generator Special Facilities Agreement for Global Ampersand, LLC, Service Agreement No. 80 under PG&E's FERC Electric Tariff Volume No. 5 in ER14-2689.

Filed Date: 8/22/14.

Accession Number: 20140822-5087.

Comments Due: 5 p.m. ET 9/12/14.

Docket Numbers: ER14-2690-000.

Applicants: PacifiCorp.

Description: § 205(d) rate filing per 35.13(a)(2)(iii): UAMPS ARTSOA Rev 4 ? Mutual Filing to be effective 10/1/2014.

Filed Date: 8/22/14.

Accession Number: 20140822-5086.

Comments Due: 5 p.m. ET 9/12/14.

Docket Numbers: ER14-2691-000.

Applicants: Alpaugh North, LLC.

Description: § 205(d) rate filing per 35.13(a)(2)(iii): Filing of modification to market-based rate tariff to be effective 8/25/2014.

Filed Date: 8/22/14.

Accession Number: 20140822-5101.

Comments Due: 5 p.m. ET 9/12/14.

Docket Numbers: ER14-2692-000.

Applicants: Alpaugh 50, LLC.

Description: § 205(d) rate filing per 35.13(a)(2)(iii): Filing of modification to market-based rate tariff to be effective 8/25/2012.

Filed Date: 8/22/14.

Accession Number: 20140822-5105.

Comments Due: 5 p.m. ET 9/12/14.

Docket Numbers: ER14-2693-000.

Applicants: Beebe 1B Renewable Energy, LLC.

Description: Compliance filing per 35: Beebe 1B Renewable Energy, LLC Compliance Filing to be effective 8/23/2014.

Filed Date: 8/22/14.

Accession Number: 20140822-5115.

Comments Due: 5 p.m. ET 9/12/14.

Docket Numbers: ER14-2694-000.

Applicants: Fourmile Wind Energy, LLC.

Description: Compliance filing per 35: Fourmile Wind Energy, LLC Compliance Filing to be effective 8/23/2014.

Filed Date: 8/22/14.

Accession Number: 20140822-5118.

Comments Due: 5 p.m. ET 9/12/14.

Docket Numbers: ER14-2695-000.

Applicants: Ioway Energy, LLC.

Description: Initial rate filing per 35.12 Ioway Energy MBR Tariff Application to be effective 9/1/2014.

Filed Date: 8/22/14.

Accession Number: 20140822-5139.

Comments Due: 5 p.m. ET 9/12/14.

Docket Numbers: ER14-2696-000.

Applicants: ITC Midwest LLC.

Description: § 205(d) rate filing per 35.13(a)(2)(iii): Filing of a Joint Use Agreement with MidAmerican to be effective 8/25/2014.

Filed Date: 8/22/14.

Accession Number: 20140822-5149.

Comments Due: 5 p.m. ET 9/12/14.

Take notice that the Commission received the following electric reliability filings:

Docket Numbers: RR14-6-000.

Applicants: North American Electric Reliability Corp.

Description: Request of the North American Electric Reliability Corporation for Acceptance of its 2015 Business Plan and Budget and the 2015 Business Plans and Budgets of Regional Entities and for Approval of Proposed Assessments to Fund Budgets.

Filed Date: 8/22/14.

Accession Number: 20140822-5090.

Comments Due: 5 p.m. ET 9/12/14.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: August 22, 2014.
Nathaniel J. Davis, Sr.,
Deputy Secretary.

[FR Doc. 2014-20728 Filed 8-29-14; 8:45 am]

BILLING CODE 6717-01-P